DEPARTMENT OF HOMELAND SECURITY

Coast Guard

[USCG-2007-28307]

Great Lakes Pilotage Advisory Committee

AGENCY: Coast Guard, DHS.

ACTION: Notice of meeting.

SUMMARY: The Great Lakes Pilotage Advisory Committee (GLPAC) will meet to discuss various issues relating to Pilotage on the Great Lakes. The meeting will be open to the public.

DATES: GLPAC will meet on Tuesday, July 24, 2007, from 8 a.m. to 2 p.m. The meeting may close early if all business is finished. Written material and requests to make oral presentations should reach the Coast Guard on or before July 9, 2007. Requests to have a copy of your material distributed to each member of the committee should reach the Coast Guard on or before July 9, 2007.

ADDRESSES: GLPAC will meet at Coast Guard Headquarters, 2100 2nd Street, SW., Washington, DC 20593-0001, Room 6303. Send written material and requests to make oral presentations to Mr. John Bobb, Commandant (CG-3PWM-1), U.S. Coast Guard Headquarters, 2100 Second Street, SW., Washington, DC 20593-0001. This notice is available on the Internet at http://dms.dot.gov.

FOR FURTHER INFORMATION CONTACT: Mr. John Bobb, Executive Secretary of GLPAC, telephone 202-372-1532, fax 202-372-1929 or e-mail at john.k.bobb@uscg.mil.

SUPPLEMENTARY INFORMATION: Notice of the meeting is given under the Federal Advisory Committee Act, 5 U.S.C. App. 2.

Agenda of Meeting

The agenda includes the following:

(1) KleinPilot—Pilot Dispatch and Billing Software.

(2) Rate Making Process.

(3) 7th Member.

(4) Report from the Director of Great Lakes Pilotage.

Procedural

The meeting is open to the public. Please note that the meeting may close early if all business is finished. At the Chair's discretion, members of the public may make oral presentations during the meeting. If you would like to make an oral presentation at the meeting, please notify the Executive Secretary no later than July 9, 2007. Written material for distribution at the meeting should reach the Coast Guard no later than July 9, 2007. If you would like a copy of your material distributed to each member of the committee in advance of the meeting, please submit 15 copies to the Executive Secretary no later than July 9, 2007.

Information on Services for Individuals With Disabilities

For information on facilities or services for individuals with disabilities or to request special assistance at the meeting, contact the Executive Secretary as soon as possible.

Dated: June 20, 2007.
J.M. Sollosi,
Acting Director of Waterways Management.

[FR Doc. E7-12290 Filed 6-25-07; 8:45 am]

BILLING CODE 4910-15-P